DEPARTMENT OF TRANSPORTATION

National Highway Traffic Safety Administration

[Docket No. NHTSA-2017-0080; Notice 2]

Reports, Forms and Record Keeping Requirements Agency Information Collection Activity Under OMB Review

AGENCY: National Highway Traffic Safety Administration, DOT

ACTION: Request for public comment on proposed collection of information.

SUMMARY: In compliance with the Paperwork Reduction Act of 1995, this notice announces that the Information Collection Request (ICR) abstracted below has been forwarded to the Office of Management and Budget (OMB) for review and comment. The ICR describes the nature of the information collections and their expected burden.

DATES: Comments must be submitted on or before September 26, 2018.

FOR FURTHER INFORMATION CONTACT: Coleman Sachs, Office of Vehicle Safety Compliance (NEF-230), National Highway Traffic Safety Administration, West Building, 4th Floor, Room W45-205, 1200 New Jersey Avenue SE, Washington, DC 20590.

SUPPLEMENTARY INFORMATION: National Highway Traffic Safety Administration.

Title: Importation of Vehicles and Equipment Subject to the Federal Motor Vehicle Safety, Bumper, and Theft Prevention Standards.

OMB Number: 2127-0002.

Type of Request: Reinstatement of an Expired Collection.

Publication of 60-Day Notice: The Federal Register Notice with a 60-day comment period was published on March 2, 2018 (83 FR 9074).

Abstract: The National Highway Traffic Safety Administration (NHTSA) has requested that OMB reinstate the agency's approval of the information collection that is incident to NHTSA's administration of the regulations at 49 CFR parts 591, 592, and 593 that govern the importation of motor vehicles and motor vehicle equipment. The information collection includes declarations that are filed (on the HS-7 Declaration form) with U.S. Customs and Border Protection (CBP) upon the importation of motor vehicles or motor vehicle equipment that is subject to Federal motor vehicle safety, bumper, and theft prevention standards administered by NHTSA. The information collection also includes the Department of Transportation (DOT) conformance bond that is furnished to CBP (on form HS-474) for each motor vehicle offered for importation that does not conform to all applicable Federal motor vehicle safety standards (FMVSS). The bond ensures that such vehicles are brought into conformity with those standards within 120 days from the date of entry or are exported from, or abandoned to, the United States. The information collection also includes paperwork that must be submitted to NHTSA and in some instances retained by registered importers (RIs) of motor vehicles that were not originally manufactured to comply with all applicable FMVSS. These items include information that a person or business entity must submit to NHTSA to be registered as an RI and to retain that status. The paperwork also includes the statement of conformity that an RI must submit to NHTSA following the completion of conformance modifications on an imported nonconforming vehicle to obtain release of the DOT conformance bond furnished for the vehicle at the time of entry. Also included is the petition that an RI or manufacturer may submit to NHTSA for the agency to decide that a vehicle that was not originally manufactured to comply with all applicable FMVSS is capable of being modified to conform to those standards and is therefore eligible for importation under 49 U.S.C. 30141. The information collection also includes applications that are filed with NHTSA for permission to import nonconforming vehicles for purposes of research, investigations, demonstrations, training, competitive racing events, and show or display, as well as applications requesting that the agency recognize vehicles manufactured for racing purposes as being qualified to be imported as vehicles that were not primarily manufactured for use on public roads, precluding the need for those vehicles to comply with the FMVSS. This information collection is necessary to ensure that motor vehicles and motor vehicle equipment subject to the Federal motor vehicle safety, bumper, and theft prevention standards are lawfully imported into the United States and that RIs and applicants for RI status are capable of meeting their obligations under the statutes and regulations governing the importation of nonconforming vehicles.

Affected Public: Individuals and commercial entities that import motor vehicles or motor vehicle equipment subject to the FMVSS and vehicles that are not primarily manufactured for use on public roads, as well as applicants for RI status and existing RIs.

Estimated Total Annual Burden: 252,622 hours; $9,880,590.

ADDRESS: Send comments, within 30 days, to the Office of Information and Regulatory Affairs, Office of Management and Budget, 725 17th Street NW, Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Michael A. Cole,
Acting Director, Office of Vehicle Safety Compliance.

[FR Doc. 2018-18423 Filed 8-24-18; 8:45 am]

BILLING CODE 4910-59-P